FEDERAL MEDIATION AND CONCILIATION SERVICE

Privacy Act of 1974; System of Records

AGENCY: Federal Mediation and Conciliation Service

ACTION: Notice of a new system of records.

SUMMARY: Federal Mediation and Conciliation Service (FMCS) Center for Conflict Resolution Education (CCRE) and the Division of Agency Initiatives (DAI) use this system to process conference attendee and participant registration. FMCS hosts, co-hosts, sponsors, or co-sponsors conferences designed to meet the real-world challenges of labor management relations, conflict resolution, mediation, and arbitration. FMCS uses additional vendors to register attendees and participants and to promote conferences. FMCS uses GovDelivery Communications Cloud to promote events and Cvent Event Solutions (Cvent) to register attendees and participants for conferences.

DATES: This system of records will be effective without further notice on August 22, 2022 unless otherwise revised pursuant to comments received. Comments must be received on or before August 22, 2022.

ADDRESSES: You may send comments, identified by FMCS-00012, by any of the following methods:

• Mail: FMCS, 250 E Street SW, Washington, DC 20427.

• Email: privacy@fmcs.gov. Include FMCS-00012 on the subject line of the message.

FOR FURTHER INFORMATION CONTACT: Kimberly Warren, Digital Media Strategist, at kwarren@fmcs.gov or call 202-606-5364. NLMC questions, email address is nlmcinfo@fmcs.gov.

SUPPLEMENTARY INFORMATION: To further promote the use of mediation, conflict resolution, and labor relations management in accordance with FMCS's mission, FMCS sponsors and co-sponsors conferences. These conferences educate and train members of the public and private sectors. GovDelivery is a web-based email subscription management application, provided by Granicus, that allows members of the public to subscribe to get information from the FMCS via email. Subscribers can choose from numerous subscriptions offered by FMCS, including, but not limited to, press releases, training opportunities, and event-related notifications. Attendees and participants may subscribe via a secure web page, to receive FMCS emails through a signup page on fmcs.gov.

Cvent, an on-line registration system, can handle conference registration and speaker information and allow attendees to register online for any FMCS events. Major functions of this system include RSVP/Decline status, schedule setting, and outgoing messages from FMCS to attendees.

SYSTEM NAME AND NUMBER:

FMCS Conference System—FMCS-00012.

SYSTEM LOCATION:

FMCS, 250 E Street SW, Washington, DC 20427.

SYSTEM MANAGER(S):

Greg Raelson, Director of Congressional and Public Affairs, email graelson@fmcs.gov, call 202-606-8081 or send mail to FMCS, 250 E Street SW, Washington, DC 20427, Attn: Greg Raelson. Cvent, Kimberly Warren, Digital Media Strategist, email kwarren@fmcs.gov, call 202-606-5364, or send mail to FMCS, 250 E Street SW, Washington, DC 20427, Attn: Kimberly Warren. GovDelivery, call 800-314-0147 or contact support at https://support.granicus.com/s/contactsupport.

AUTHORITY FOR MAINTENANCE OF THE SYSTEM:

29 U.S.C. 172; 29 U.S.C. 173 (e); and 29 CFR 1403.

PURPOSE(S) OF THE SYSTEM:

The purpose of the system is for collecting, processing, and maintaining participant's or attendee's basic contact information for FMCS conferences. The basic information is required to determine the participant's or attendee's region or geographical location and to have adequate preparation for the conference. This information is also used to assess the best allocation of FMCS resources. The system gives a detailed structure of the conference including the conference program, keynote sessions, list of invited speakers with their background information, timetables for the conference meetings, venues of the conference, conference sponsors, and conference fees. The system is made up of interrelated components to perform to task, for example a computer system and IT system (multiple computers joined by a network). The system also includes GovDelivery which handles digital subscription management and deliver opt-in email and other messaging to FMCS audiences. Audiences include, but are not limited to, citizens who are interested in receiving news and updates from the FMCS, seek to register for FMCS events and conferences, and who opt to receive targeted communications or specific topics related to conflict management. Cvent is also a component of the FMCS Conference system.

CATEGORIES OF INDIVIDUALS COVERED BY THE SYSTEM:

The categories of individuals in this system include: the public (as attendees or participants), conference speakers, and Federal employees who register on the FMCS website for participation in selected training workshops, webinars, training sessions, and conference sessions hosted by FMCS.

CATEGORIES OF RECORDS IN THE SYSTEM:

The categories of records maintained in the system include:

(1) List of conference programs, including event location, time, date, conference events and agendas;

(2) Information pertaining to registration including names, registration fees, conference description, and professional affiliation;

(3) Attendee's information or participant information including first name, last name, email address, title, office, employer/organization, address, room #/mail code, city, state, zip/postal code, country, and telephone and fax number; and

(4) Information concerning the basis for and supporting documentation regarding the conference.

RECORD SOURCE CATEGORIES:

The information pertaining to this system is primarily collected via website from individuals requesting to register for an event sponsored by FMCS. The sources of information include attendees, speakers, exhibitors, officials, education professionals, FMCS employees, and guests.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FMCS as a routine use pursuant to 5 U.S.C. 552a(b)(3) as follows:

(a) To disclose pertinent information to the appropriate Federal, State, or local agency responsible for investigating, prosecuting, enforcing, or implementing a statute, rule regulation or order where the record, either alone or in conjunction with other information creates an indication of a violation or potential violation of civil or criminal laws or regulations.

(b) To disclose information to the National Archives and Records Administration (NARA) for use in its records management inspections; to the Government Accountability Office (GAO) for oversight purposes; to the Department of Justice (DOJ) to obtain that department's advice regarding disclosure obligations under the Freedom of Information Act (FOIA); or to the Office of Management and Budget (OMB) to obtain that office's advice regarding obligations under the Privacy Act.

(c) To disclose information to the National Archives and Records Administration (NARA) or the General Services Administration in records management inspections conducted under authority of 44 U.S.C. 2904 and 2906.

(d) To a former employee of the Agency for purposes of responding to an official inquiry by a federal, state, or local government entity or professional licensing authority, in accordance with applicable Agency regulations; or facilitating communications with a former employee that may be necessary for personnel-related or other official purposes where the Agency requires information and/or consultation assistance from the former employee regarding a matter within that person's former area of responsibility.

(e) To disclose information to contractors, grantees, experts, consultants, detailees, and other non-Government employees performing or working on a contract, service, or other assignment for the Federal Government when necessary to accompany an agency function related to this system of records.

(f) To officials of labor organizations recognized under 5 U.S.C. Chapter 71 upon receipt of a formal request and in accordance with the conditions of 5 U.S.C. 7114 when relevant and necessary to their duties of exclusive representation concerning personnel policies, practices, and matters affecting working conditions.

(g) To disclose information to a Member of Congress or a congressional office in response to an inquiry made on behalf of, and at the request of, an individual who is the subject of the record.

(h) In an appropriate proceeding before a court, grand jury, or administrative or adjudicative body or official, when FMCS or other Agency representing FMCS determines the records are relevant and necessary to the proceeding; or in an appropriate proceeding before an administrative or adjudicative body when the adjudicator determines the records to be relevant to the proceeding.

(i) To the Department of Justice, including Offices of the U.S. Attorneys; another Federal agency conducting litigation or in proceedings before any court, adjudicative, or administrative body; another party in litigation before a court, adjudicative, or administrative body; or to a court, adjudicative, or administrative body. Such disclosure is permitted only when it is relevant and necessary to the litigation or proceeding, and one of the following is a party to the litigation or has an interest in such litigation:

(1) FMCS, or any component thereof;

(2) Any employee or former employee of FMCS in their official capacity;

(3) Any employee or former employee of FMCS in their capacity where the Department of Justice or FMCS has agreed to represent the employee;

(4) The United States, a Federal agency, or another party in litigation before a court, adjudicative, or administrative body, upon the FMCS General Counsel's approval, pursuant to 5 CFR part 295 or otherwise.

(j) To any federal agency, organization, or person for the purposes of performing audit or oversight operations related to the operation of this system of records as authorized by law, but only information necessary and relevant to such audit or oversight function.

(k) To disclose information to appropriate agencies, entities, and persons when: (1) FMCS suspects or has confirmed that there has been a breach of the system of records; (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(l) To disclose information to another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(m) To disclose to professional affiliations, licensing entities, and employers to verify attendance and course completion.

(n) To disclose, in a limited capacity, to vendor(s) to provide requested accommodations associated with conference attendance or participation.

POLICIES AND PRACTICES FOR STORAGE OF RECORDS:

These records are maintained in electronic form only accessible to authorized personnel. Electronic records are stored on the agency's internal servers with restricted access to only authorized personnel and designated officials as determined by agency officials. Cvent and GovDelivery are hosted subscription systems, and all records are maintained by the hosting company.

POLICIES AND PRACTICES FOR RETRIEVAL OF RECORDS:

The records are retrieved by the name or other programming identifier assigned to an individual in the electronic database system. Records may also be retrieved by the title of the conference and entity associated with the attendee's or participant's registration.

POLICIES AND PRACTICES FOR RETENTION OF DISPOSAL OF RECORDS:

All records are retained and disposed of in accordance with General Records Schedule 6.4, issued by the National Archives and Records Administration, and FMCS. Records are destroyed when three years old or when they are no longer needed for business use.

ADMINISTRATIVE, TECHNICAL, AND PHYSICAL SAFEGUARDS:

Regarding the Conference system, on premises there is a NetApp Network attached Windows File System shared folder with permissions set to only allow those with designated access by membership thru a Windows Azure group membership. Group access and modification is controlled by IT which uses a privileged administrator account. Array is physically located in a locked computer room with limited badge access. Cvent and GovDelivery are remote hosted subscription systems accessed by username/password maintained by the host company and created by the user of the systems. FMCS administrators maintain accounts/access and content for the hosted spaces. Cvent and GovDelivery are both FedRAMP authorized vendors and use government accepted procedures for keeping data safe.

RECORD ACCESS PROCEDURES:

Attendees and participants may access the GovDelivery system via links placed on client web pages or in system-generated emails. GovDelivery subscribers have access to their own personal data in the system. Cvent registrants may access their personal data through their registration confirmation or by contacting FMCS. Individuals must provide the following information for their records to be located and identified: (1) Full name, (2) Address, and (3) A reasonably identifying description of the record content requested. Requests can be submitted via fmcs.gov/foia/, via email to privacy@fmcs.gov, or via mail to FMCS, Privacy Office, 250 E Street SW, Washington, DC 20427. See 29 CFR 1410.3, Individual access requests.

CONTESTING RECORDS PROCEDURES:

See 29 CFR 1410.6, Requests for correction or amendment of records, on how to contest the content of any records. Privacy Act requests to amend or correct records may be submitted to the Privacy Office at privacy@fmcs.gov or Privacy Officer at FMCS, Privacy Office, 250 E Street SW, Washington, DC 20427. Also, see https://www.fmcs.gov/privacy-policy/.

NOTIFICATION PROCEDURES:

See 29 CFR 1410.3(a), Individual access requests.

EXEMPTIONS PROMULGATED FOR THE SYSTEM:

None.

HISTORY:

None.

Dated: July 19, 2022.
Anna Davis,
Deputy General Counsel.

[FR Doc. 2022-15675 Filed 7-21-22; 8:45 am]

BILLING CODE 6732-01-P